DEPARTMENT OF EDUCATION

Applications for New Awards; Technical Assistance on State Data Collection—National Technical Assistance Center To Improve State Capacity To Collect, Report, Analyze, and Use Accurate Early Childhood IDEA Data

AGENCY: Office of Special Education and Rehabilitative Services, Department of Education.

ACTION: Notice.

SUMMARY: The Department of Education (Department) is issuing a notice inviting applications for new awards for fiscal year (FY) 2024 for a National Technical Assistance Center To Improve State Capacity To Collect, Report, Analyze, and Use Accurate Early Childhood IDEA Data.

DATES: Applications Available: July 22, 2024.

Deadline for Transmittal of Applications: August 21, 2024.

Deadline for Intergovernmental Review: November 19, 2024.

Pre-Application Webinar Information: No later than July 29, 2024, the Office of Special Education Programs and Rehabilitative Services will post pre-recorded informational webinars designed to provide technical assistance (TA) to interested applicants. The webinars may be found at https://www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: Meredith Miceli, U.S. Department of Education, 400 Maryland Avenue SW, Room 4A10, Washington, DC 20202. Telephone: (202) 987-0135. Email: Meredith.Miceli@ed.gov.

If you are deaf, hard of hearing, or have a speech disability and wish to access telecommunications relay services, please dial 7-1-1.

SUPPLEMENTARY INFORMATION:

Full Text of Announcement

I. Funding Opportunity Description

Purpose of Program: The purpose of the Technical Assistance on State Data Collection program is to improve the capacity of States to meet IDEA data collection and reporting requirements. Funding for the program is authorized under section 611(c)(1) of the Individuals with Disabilities Education Act (IDEA), which gives the Secretary authority to reserve not more than one-half of one percent of the amounts appropriated under Part B for each fiscal year to provide TA activities, where needed, to improve the capacity of States to meet the data collection and reporting requirements under Parts B and C of IDEA. The maximum amount the Secretary may reserve under this set-aside for any fiscal year is $25,000,000, cumulatively adjusted by the rate of inflation. Section 616(i) of IDEA requires the Secretary to review the data collection and analysis capacity of States to ensure that data and information determined necessary for implementation of sections 616 and 642 of IDEA are collected, analyzed, and accurately reported to the Secretary. It also requires the Secretary to provide TA, where needed, to improve the capacity of States to meet the data collection requirements, which include the data collection and reporting requirements in sections 616 and 618 of IDEA. In addition, the Further Consolidated Appropriations Act, 2024, Public Law 118-47, gives the Secretary authority to use funds reserved under section 611(c) of IDEA to “administer and carry out other services and activities to improve data collection, coordination, quality, and use under Parts B and C of the IDEA.” Further Consolidated Appropriations Act, 2024, Public Law 118-47, Div. D, Title III, 138 Stat. 460, 685 (2024).

Assistance Listing Number: 84.373Z.

OMB Control Number: 1820-0028.

Priority: This competition includes two absolute priorities. These priorities are from the notice of final priorities and requirements (NFP) for this program published elsewhere in this issue of the Federal Register.

Absolute Priority: For FY 2024 and any subsequent year in which we make awards from the list of unfunded applications from this competition, these priorities are absolute priorities. Under 34 CFR 75.105(c)(3), we consider only applications that meet both Absolute Priorities 1 and 2.

These priorities are:

Absolute Priority 1: National Technical Assistance Center To Improve State Capacity To Collect, Report, Analyze, and Use Accurate Early Childhood IDEA Data.

Background:

The purpose of this priority is to establish a TA center to improve State capacity to meet the early childhood data collection and reporting requirements for children with disabilities under Parts C and B of the IDEA.¹ State-level staff in Part C early intervention and Part B preschool special education programs are expected to report high quality data; be able to provide in-depth explanations of the data; use the data to improve programs, compliance, and general supervision of Part C early intervention and Part B preschool special education programs; and present the data in an understandable fashion to all data users, including novice data users. Under the EDFacts Modernization Project, which began with the submission of the 2022-23 IDEA section 618 data, the Office of Special Education Programs (OSEP) is expecting States to undertake more data quality initiatives before the deadline for data submission, a task previously completed by OSEP after the due date. Additionally, beginning with the Federal fiscal year (FFY) 2022 State Performance Plan/Annual Performance Report (SPP/APR) (submitted in 2024), State Part C early intervention programs must report additional data and information to substantiate that the reported data for indicator C4 (Family Involvement) ² accurately represent infants and toddlers with disabilities and their families receiving services within their State. Also, State-level staff in Part C early intervention and Part B preschool special education programs are expected to analyze and use data to report on how they are both ensuring compliance with IDEA requirements and improving results for children with disabilities through OSEP's Differentiated Monitoring and Support as part of the results-driven accountability system. Lastly, States are expected to present their data in a manner that fosters stakeholder engagement, encouraging active participation in important discussions regarding program improvement and accountability compliance.

¹ This notice describes infants, toddlers and/or children with disabilities as “children with disabilities” or “young children with disabilities to include children referred to both Parts C and B of the IDEA, birth through age five.

² Indicator C4 requires States to report on the percent of families participating in Part C who report that early intervention services have helped the family: (a) know their rights; (b) effectively communicate their children's needs; and (c) help their children develop and learn.

As expectations surrounding IDEA have evolved and intensified, there is a growing imperative to provide support for both seasoned and new data personnel operating within Part C early intervention and Part B preschool special education programs. In 2023, approximately 17 percent of the State data managers for Part C early intervention programs had less than a year experience while approximately 23 percent had been in the role for only one to three years. According to the 2023 IDEA Infants and Toddlers Coordinators Association (ITCA) Tipping Points Survey, approximately 49 percent of Part C coordinators had served in their position for two years or less (ITCA, 2023).³ Similarly, in 2023, approximately 59 percent of Part B preschool special education coordinators possessed three years or less experience (Early Childhood Technical Assistance Center, 2023).⁴ Given the persistent turnover among staff in Part C early intervention and Part B preschool special education programs, there is a critical need to support new and novice staff in effectively collecting, reporting, analyzing, and using IDEA data.

³ For more information on ITCA's 2023 Tipping Points Survey, please go to 2023 Tipping Points Survey (ideainfanttoddler.org). www.ideainfanttoddler.org/pdf/2023-Tipping-Points-Survey.pdf.

Early Childhood Technical Assistance Center. (2023). Part B, Section 619 National Survey 2023. https://ectacenter.org/sec619/sec619survey.asp.

⁴ Early Childhood Technical Assistance Center. (2023). Part B, Section 619 National Survey 2023. https://ectacenter.org/sec619/sec619survey.asp.

Given the heightened demands placed on the collection, reporting, analysis, and use of IDEA data, coupled with staff turnover, there is a need to find efficient, effective, and user-friendly approaches to conducting the early childhood IDEA data work. Improved data management processes, alongside the growing development of linked and integrated child-level data across Part C data systems, Part B preschool special education data systems, other early learning program data systems, and statewide longitudinal data systems for school-aged children, are key approaches for States to meet these heightened expectations. States need to establish and implement effective early childhood data management policies and procedures, including, where appropriate, integration of data systems to bolster program improvement, compliance accountability, and Federal and public reporting. Improved policies and procedures would enable States, where applicable, to link or integrate child-level data across Part C data systems, Part B preschool special education data systems, other early learning program data systems, and statewide longitudinal data systems for school-aged children. An early childhood integrated data system (ECIDS) could assist States in identifying optimal strategies to improve outcomes for young children within their jurisdictions. For instance, an ECIDS offers States the opportunity to assess which service characteristics correlate with improved outcomes for children and families, as well as explore the relationship between early childhood settings and outcomes. Moreover, an ECIDS that includes data from across various early care and education programs could also improve child find activities in the State by identifying strong referral sources and areas requiring increased outreach efforts. An ECIDS could also aid States in identifying other early care and education programs in which young children with disabilities and their families participate, thereby enabling States to maximize the efficiency of inclusive service delivery for young children with disabilities and their families.

Building robust ECIDSs, incorporating both Part C early intervention and Part B preschool special education data, would improve responses to critical policy questions, facilitate program improvement, and reinforce compliance accountability for Part C early intervention and Part B preschool special education programs. This level of integration would help ensure that States report high-quality IDEA data to the Department and the public. Despite some progress over the past decade in linking and integrating Part C early intervention and Part B preschool special education data with data from other early learning programs, K-12 systems, and the workforce, as well as longitudinally over time, the proportion of State programs capable of making these changes remains low. In response to a survey on their State data systems, less than 40 percent of Part C early intervention and Part B preschool special education programs indicated the ability to link their child-level data to their workforce data. Moreover, less than 30 percent of Part C early intervention programs that responded reported linking Part C child-level data to Early Head Start, Head Start, State Pre-K, childcare programs, home visiting programs, or other early care or education programs. Most Part C early intervention programs that responded stated they have never linked their Part C data to their Part B preschool special education data.⁵

⁵ Perez, N., & Mercier, B. (2022). 2021 DaSy data systems (State of the States) survey findings. SRI International. https://dasycenter.org/wp-content/uploads/2022/12/DaSy_2021DaSyDataSystemsSurveyFindings_Acc.pdf.

This priority will directly address the increased expectations and capacity challenges Part C early intervention and Part B preschool special education programs face with respect to effectively and efficiently collecting, reporting, analyzing, and using high-quality IDEA data.

Priority:

The purpose of this priority is to fund a cooperative agreement to establish and operate a National Technical Assistance Center To Improve State Capacity To Collect, Report, Analyze, and Use Accurate Early Childhood IDEA Data (Center). The Center will provide TA to (1) improve State capacity to collect, report, analyze, and use high-quality IDEA Part C early intervention data (including IDEA section 618 Part C data and IDEA section 616 Part C data) and IDEA Part B preschool special education data on children with disabilities; and (2) enhance and streamline Part C and Part B preschool special education data systems by sharing, linking, and integrating statewide, child-level early childhood data (including Part C and Part B preschool special education data) to improve the analyses of IDEA data to address critical policy questions that will facilitate program improvement, improve compliance accountability, and improve outcomes or results for children served under Part C and Part B preschool special education programs. These Part C early intervention and Part B preschool special education data systems must allow the States to (1) effectively and efficiently respond to all IDEA-related data submission requirements (e.g., Part C section 616 and 618 data and Part B preschool special education data); (2) improve the analyses of IDEA data to the extent these analyses respond to critical policy questions that will facilitate program improvement and compliance accountability; and (3) comply with applicable privacy requirements, including the privacy and confidentiality requirements under Parts B and C of IDEA and applicable provisions of the Family Educational Rights and Privacy Act (20 U.S.C. 1232g) and its regulations at 34 CFR part 99.⁶

⁶ The Center must review the need for additional resources (with input from the Department) and disseminate existing resources developed by the Department, such as: (1) Understanding the Confidentiality Requirements Applicable to IDEA Early Childhood Programs (October 2016); (2) IDEA/FERPA Crosswalk (Surprenant & Miller, August 24, 2022); (3) Webinars such as Navigating IDEA and FERPA To Protect Privacy in Today's Early Childhood World (September 22, 2023); and (4) Data sharing agreement template.

The Center must achieve, at a minimum, the following expected outcomes:

(a) Increased capacity of States to collect, report, analyze, and use high-quality IDEA Part C early intervention data (including IDEA section 616 Part C data ⁷ and section 618 Part C data ⁸);

⁷ The IDEA section 616 Part C data includes Indicator 1 through 12 as discussed in the Part C State Performance Plan (SPP) and Annual Performance Report (APR) Indicator Measurement Table.

⁸ The IDEA section 618 Part C data includes Part C Child Count and Settings data collection, Part C Exiting data collection, and the Part C Dispute Resolution data collection.

(b) Increased capacity of States to collect, report, analyze, and use high-quality IDEA Part B preschool special education data;

(c) Increased number of States with plans to share, link, or integrate Part C early intervention and Part B preschool special education data (that comply with all applicable privacy laws) and use such shared, linked, or integrated Part C early intervention and Part B preschool special education data to improve program compliance and accountability;

(d) Increased number of States that use their Part C early intervention and Part B preschool special education data system to identify and answer critical State-determined policy questions to drive program improvement, improve results for children with disabilities, and improve compliance accountability;

(e) Increased number of States who consider engaging in data sharing, linking, or integration activities related to Part C and Part B preschool special education data/data systems to other statewide longitudinal and early learning data/data systems (e.g., Early Head Start, Head Start, child care, publicly funded preschool, and home visiting programs) and identify how to enable such sharing, linkages, or integration so that it would comply with all applicable privacy laws;

(f) Increased capacity of States to implement and document Part C early intervention and Part B preschool special education data management policies and procedures, including data sharing, linking, and integration activities, used to collect, report, analyze, and use high-quality IDEA Part C early intervention and Part B preschool special education data;

(g) Increased capacity of States to address data leadership and personnel training needs to collect, report, analyze, and use the Part C early intervention and Part B preschool special education data collection through development of effective tools and resources, as well as providing opportunities for in-person and virtual cross-State training for data leaders and personnel in State and local programs and agencies to collect, report, analyze, and use Part C early intervention and Part B preschool special education;

(h) Increased capacity of States to collect, report, analyze, and use Part C and Part B preschool special education data to support equitable identification, access, services, outcomes, and impact of early intervention and preschool special education and related services on infants, toddlers, and young children receiving services under IDEA; and

(i) Increased capacity of States to collect, report, analyze, and use Part C early intervention and Part B preschool special education data to improve State IDEA data analyses regarding results and functional outcomes for all infants, toddlers, and young children with disabilities to demonstrate and improve how public agencies meet the program requirements under Parts B and C of IDEA, with a particular emphasis on those requirements that are most closely related to improving early intervention results for infants and toddlers with disabilities and educational results for children with disabilities as monitored by OSEP via its Differentiated Monitoring and Support process.

Absolute Priority 2: Technical Assistance To Improve State Capacity To Collect, Report, Analyze, and Use Accurate Child Find Data For Infants and Toddlers.

Background:

The purpose of this priority is to establish a TA center to provide TA to increase the capacity of States to collect, report, analyze, and use data available to States to improve their Part C child find data and efforts that they report through their Part C SPP/APR.

On October 5, 2023, the U.S. Government Accountability Office (GAO) issued a report “Special Education: Additional Data Could Help Early Intervention Programs Reach More Eligible Infants and Toddlers” noting variation across racial groups at each step of the identification and enrollment process for early intervention services under Part C of IDEA (GAO-24-106019)(2023 GAO IDEA Part C Child Find Report).⁹ Based on an analysis of data from 16 States, GAO found that the percentage of infants and toddlers who were referred and evaluated differed widely by race. However, the percentage of infants and toddlers who were found eligible and began receiving Part C services looked similar across races. For example, the percentage of infants and toddlers who were referred and subsequently received an evaluation ranged from 59 percent for American Indian and Alaska Native children to 86 percent for Asian children. In contrast, the percentage of those determined eligible and subsequently began receiving Part C services ranged from 91 percent for American Indian or Alaska Native children to 95 percent for Asian and White children.

⁹ The GAO Report and the Department's response concurring with the recommendation can be found at www.gao.gov/assets/d24106019.pdf.

Specifically, the 2023 GAO IDEA Part C Child Find Report identified one matter for Congress and one recommendation for the Department, to which the Department agreed. GAO recommended that the Department encourage all States to use demographic data they already collect to maximize children's access to Part C early intervention services. In its September 13, 2023, response, the Department noted its plans to implement this recommendation. Starting with the FFY 2023 SPP/APR, which States will submit on February 3, 2025, all States are encouraged to include the root cause analysis of their child find efforts for indicators C-5 and C-6,¹⁰ utilizing all available data rather than solely relying on the child find data reported under SPP/APR C-5 and C-6 and must report this root cause analysis if the State shows slippage in the FFY 2023 data it reports under SPP/APR indicators C-5 and C-6.¹¹

¹⁰ Per the Part C State Performance Plan and Annual Performance Report (Part C SPP/APR) General Instructions, “If a State is required to report on the reasons for slippage, then the State must include the results of its analysis under the “Additional Information” section of Indicators 5 and 6.” Part C State Performance Plan and Annual Performance Report (Part C SPP/APR)—General Instructions—For Federal Fiscal Year 2023 Submission.

¹¹ For the FFY 2023 SPP/APR Indicators C-5 and C-6, the Department noted that “to improve the analysis of whether States are identifying children who need services as early as possible, States should conduct root cause analyses of child find identification rates, including reviewing data (if available) on the number of children referred, evaluated, and identified. This root cause analysis may include examining not only demographic data (such as race and ethnicity data reported under IDEA section 618 and Indicators C-5 and C-6), but also other child-find related data available to the State (such as geographic location, family income, primary language, etc.). The State should report the results of its analysis under the “Additional Information” section of the Indicators C-5 and C-6. Furthermore, if a State is required to report on the reasons for slippage, then the State must include the results of its analysis under the “Additional Information” section of the Indicators C-5 and C-6.” See, https://omb.report/icr/202305-1820-001/doc/131687100.

While many State Part C early intervention programs currently use demographic data for infants and toddlers to identify disparities in the provision of, and improve access to, Part C services, not all States have implemented similar analyses of other data influencing child find identification rates. Analyzing child find data beyond race and ethnicity data reported under IDEA section 618 is crucial. This broader analysis should encompass factors such as geographic location, family income, and primary language. By conducting analyses of these additional child find-related data, all State Part C early intervention programs can more effectively identify and serve infants and toddlers eligible for services under Part C of IDEA. To promote equitable access to early intervention services under Part C of IDEA, this priority provides needed TA to States as they embark on reporting root cause analyses using all available child find-related data to improve their data analyses, child find efforts, and children's access to early intervention services under Part C of IDEA.

Priority:

The purpose of this priority is to fund TA to increase the capacity of States to collect, report, analyze, and use available data to improve the Part C child find data they report through their Part C SPP/APR.

The Center must achieve, at a minimum, the following expected outcomes:

(a) Increased capacity of States to collect, report, analyze, and use available data to improve the root cause analysis of their Part C child find data (including IDEA section 616 Part C data for indicators C5 and C6 and section 618 Part C data);

(b) Increased number of States that have the capacity to identify, for children served under IDEA Part C, other data they may collect (such as number of infants and toddlers referred, screened, evaluated, eligible, and enrolled in early intervention services under Part C) by various characteristics of the child, including race, ethnicity, home language, gender, socio-economic status, and geographic location;

(c) Increased number of States that have the capacity to conduct a root cause analysis of available child find data to better identify disparities among demographic groups and potential barriers to enrollment in early intervention services under Part C of IDEA; and

(d) Increased number of States that have the capacity to use their IDEA and non-IDEA Part C child find data to improve their IDEA child find processes at the State and local program levels.

In addition to the program requirements contained in both priorities, to be considered for funding, applicants must meet the application and administrative requirements. We may apply these requirements in any year in which this program is in effect.

Applicants must—

(a) Demonstrate, in the narrative section of the application under “Significance,” how the proposed project will—

(1) Address State challenges associated with early childhood data management and data sharing, linking, and integration, including implementing early childhood data system integration and improvements; enhancing and streamlining Part C early intervention and Part B preschool special education data systems to respond to critical policy questions; using ECIDS for program improvement and compliance accountability for Part C early intervention and Part B preschool special education programs; reporting high-quality IDEA Part C data (including IDEA section 616 Part C data and section 618 Part C data) and IDEA Part B preschool special education data to the Department and the public; and analyzing Part C child find data to improve equitable access to Part C early intervention services. To meet this requirement the applicant must—

(i) Present applicable national, State, or local data demonstrating the challenges of States to implement effective early childhood data management policies and procedures and data sharing, linking, and integration activities, including integrating early childhood data systems across IDEA programs, other early learning programs, and other educational programs for school-aged students; link Part C and Part B preschool special education program data; use their Part C and Part B preschool special education data systems to respond to critical State-determined policy questions for program improvement and compliance accountability; and collect, report, analyze, and use Part C child find data to improve equitable access to Part C early intervention services;

(ii) Demonstrate knowledge of current educational and technical issues and policy initiatives relating to early childhood data management and data sharing, linking, and integration; data use; data privacy; Part C IDEA sections 616 and 618 data; Part C child find data; Part B preschool special education data; and Part C and Part B preschool special education data systems; and

(iii) Present information about the current level of implementation of sharing, linking, and integrating Part C and Part B preschool special education data; sharing, linking, or integrating Part C and/or Part B preschool special education data systems with other early learning data systems; using Part C and Part B preschool special education data systems to respond to critical State-determined policy questions; and collecting, reporting, analyzing, and using high-quality IDEA Part C data (including IDEA section 616 Part C data and section 618 Part C data) and IDEA Part B preschool special education data; and

(2) Improve early childhood data management policies and procedures and data sharing, linking, and integration practices to: collect, report, and analyze high-quality Part C and Part B preschool special education data (including Part C child find data); share, link, or integrate Part C and Part B preschool special education data; share, link, or integrate these data with data on children participating in other early learning programs and data on school-aged children; and use robust early childhood data systems to improve the analyses of IDEA data to the extent these analyses answer critical State-determined policy questions. Include the likely magnitude or importance of the improvements.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for TA and information; and

(ii) Ensure that products and services meet the needs of the intended recipients of the grant;

(2) Achieve its goals, objectives, and intended outcomes. To meet this requirement, the applicant must provide—

(i) Measurable intended project outcomes; and

(ii) In Appendix A, the logic model (as defined in 34 CFR 77.1) by which the proposed project will achieve its intended outcomes that depicts, at a minimum, the goals, activities, outputs, and intended outcomes of the proposed project;

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: https://osepideasthatwork.org/sites/default/files/2021-12/ConceptualFramework_Updated.pdf and www.osepideasthatwork.org/resources-grantees/program-areas/ta-ta/tad-project-logic-model-and-conceptual-framework.

(4) Be based on current research and make use of evidence-based ¹² practices (EBPs). To meet this requirement, the applicant must describe—

¹² For purposes of these requirements, “evidence-based” means, at a minimum, demonstrating a rationale (as defined in 34 CFR 77.1) based on high-quality research findings or positive evaluation that such activity, strategy, or intervention is likely to improve student outcomes or other relevant outcomes.

(i) The current research on early childhood data management and data sharing, linking, and integration, and related EBPs; and

(ii) How the proposed project will incorporate current research and EBPs in the development and delivery of its products and services;

(5) Develop products and provide services that are of high quality and sufficient intensity and duration to achieve the intended outcomes of the proposed project. To address this requirement, the applicant must describe—

(i) How it proposes to identify and develop the knowledge base on early childhood data management and data system integration;

(ii) Its proposed approach to universal, general TA,¹³ which must identify the intended recipients, including the type and number of recipients, that will receive the products and services under this approach;

¹³ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(iii) The proposed approach to targeted, specialized TA,¹⁴ which must identify—

¹⁴ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services;

(B) The proposed approach to measure the readiness of potential TA recipients to work with the project, assessing, at a minimum, their current infrastructure, available resources, and ability to build capacity at the State and local level; and

(C) The process by which the proposed project will collaborate with OSEP-funded centers and other federally funded TA centers to develop and implement a coordinated TA plan when the work of the center or centers overlaps with the proposed project; and

(iv) Its proposed approach to intensive, sustained TA,¹⁵ which must identify—

¹⁵ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients, that will receive the products and services under this approach;

(B) Its proposed approach to addressing States' challenges associated with limited resources to engage in early childhood data sharing, linking, and integration and enhancement activities that streamline the established Part C and Part B preschool special education data systems to respond to critical policy questions and to report high-quality IDEA data to the Department and the public, which must, at a minimum, include providing on-site consultants to the State lead agency (LA) or State educational agency (SEA) to—

(1) Model and document data management and data sharing, linking, and integration policies, procedures, processes, and activities within the State;

(2) Develop and adapt tools and provide technical solutions to meet State-specific data needs; and

(3) Develop a sustainability plan for the State to continue the data management and data sharing, linking, and integration work in the future;

(C) Its proposed approach to measure the readiness of State LA and SEA personnel to work with the project, including their commitment to the initiative, alignment of the initiative to their needs, current infrastructure, available resources, and ability to build capacity at the State and local levels;

(D) Its proposed approach to prioritizing TA recipients with a primary focus on meeting the needs of States with known ongoing data quality issues, as measured by OSEP's review of the quality of the IDEA sections 616 and 618 data;

(E) Its proposed plan for assisting State LAs and SEAs to build or enhance training systems that include professional development based on adult learning principles and coaching;

(F) Its proposed plan for working with appropriate levels of the education system (e.g., State LAs, SEAs, regional TA providers, districts, local programs, families) to ensure that there is communication between each level and that there are systems in place to support the collection, reporting, analysis, and use of high-quality IDEA Part C data (including IDEA section 616 Part C data, section 618 Part C data, and Part C child find data) and IDEA Part B preschool special education data as well as early childhood data management and data system integration; and

(G) Its proposed plan for collaborating and coordinating with the National Technical Assistance Center to Improve State Capacity to Collect, Report, Analyze, and Use Accurate IDEA Part B Data, the Early Childhood Technical Assistance Center, other Department-funded TA investments, other federally funded TA investments, and Institute of Education Sciences/National Center for Education Statistics research and development investments, where appropriate, in order to align complementary work and jointly develop and implement products and services to meet the purposes of this priority and to develop and implement a coordinated TA plan when they are involved in a State; and

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes.

(c) In the narrative section of the application under “Quality of the project evaluation,” include an evaluation plan for the project developed in consultation with and implemented by a third-party evaluator.¹⁶ The evaluation plan must—

¹⁶ A “third-party” evaluator is an independent and impartial program evaluator who is contracted by the grantee to conduct an objective evaluation of the project. This evaluator must not have participated in the development or implementation of any project activities, except for the evaluation activities, or have any financial interest in the outcome of the evaluation.

(1) Articulate formative and summative evaluation questions, including important process and outcome evaluation questions. These questions should be related to the project's proposed logic model required in paragraph (b)(2)(ii) of these application and administrative requirements;

(2) Describe how progress in and fidelity of implementation, as well as project outcomes will be measured to answer the evaluation questions.

Specify the measures and associated instruments or sources for data appropriate to the evaluation questions. Include information regarding reliability and validity of measures where appropriate;

(3) Describe strategies for analyzing data and how data collected as part of this plan will be used to inform and improve service delivery over the course of the project and to refine the proposed logic model and evaluation plan, including subsequent data collection;

(4) Provide a timeline for conducting the evaluation, and include staff assignments for completing the plan. The timeline must indicate that the data will be available annually for the annual performance report (APR) and at the end of Year 2; and

(5) Dedicate sufficient funds in each budget year to cover the costs of developing or refining the evaluation plan in consultation with a “third-party” evaluator, as well as the costs associated with the implementation of the evaluation plan by the third-party evaluator.

(d) Demonstrate, in the narrative section of the application under “Adequacy of resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities;

(4) The proposed costs are reasonable in relation to the anticipated results and benefits and funds will be spent in a way that increases their efficiency and cost-effectiveness, including by reducing waste or achieving better outcomes.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated to the project and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in Appendix A, personnel-loading charts and timelines, as applicable, to illustrate the management plan described in the narrative;

(2) Include, in the budget, attendance at the following:

(i) A one and one-half day kick-off meeting in Washington, DC, after receipt of the award, and an annual planning meeting in Washington, DC, with the OSEP project officer and other relevant staff during each subsequent year of the project period.

(ii) A three-day project directors' conference in Washington, DC, during each year of the project period, provided that, if the conference is conducted virtually, the project must reallocate unused travel funds no later than the end of the third quarter of each budget period.

(iii) Three annual two-day trips to attend Department briefings, Department-sponsored conferences, and other meetings, as requested by OSEP;

(3) Provide an assurance that the project will—

(i) Reallocate unused travel funds no later than the end of the third quarter if the kick-off or planning meetings are conducted virtually; and

(ii) Within 30 days of receipt of the award, participate in a post-award teleconference between the OSEP project officer and the grantee's project director or other authorized representative;

(4) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(5) Budget at least 50 percent of the grant award for providing targeted and intensive TA to States;

(6) Provide an assurance that it will maintain a high-quality website, with an easy-to-navigate design, that meets government or industry-recognized standards for accessibility; and

(7) Include, in Appendix A, an assurance to assist OSEP with the transfer of pertinent resources and products and to maintain the continuity of services to States during the transition to these new award period and at the end of this award period, as appropriate.

Program Authority: 20 U.S.C. 1411(c), 1416(i), 1418(c), 1418(d), 1442; Further Consolidated Appropriations Act, 2024, Public Law 118-47, Div. D, Title III, 138 Stat. 460, 685 (2024).

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474. (d) The NFP.

Note: The U.S. Department of Education will implement the provisions included in the Office of Management and Budget (OMB) final rule, OMB Guidance for Federal Financial Assistance, which amends 2 CFR parts 25, 170, 175, 176, 180, 182, 183, 184, and 200, on October 1, 2024. Grant applicants that anticipate a performance period start date on or after October 1, 2024, should follow the provisions stated in the OMB Guidance for Federal Financial Assistance (89 FR 30046, April 22, 2024) when preparing an application. For more information about these updated regulations please visit: www.cfo.gov/resources/uniform-guidance/. The Department will continue to provide more resources on our web page as they become available.

Note: The regulations in 34 CFR part 79 apply to all applicants except federally recognized Indian Tribes.

Note: The regulations in 34 CFR part 86 apply to institutions of higher education only.

II. Award Information

Type of Award: Cooperative agreement.

Estimated Available Funds: $6,250,000 in year one, $6,750,000 in years two and three, and $7,000,000 in years four and five.

Contingent upon the availability of funds and the quality of applications, we may make additional awards in FY 2025 from the list of unfunded applications from this competition.

Maximum Award: We will not make an award exceeding $6,250,000 for a single budget period of 12 months in year one, $6,750,000 for a single budget period of 12 months in years two and three, and $7,000,000 for a single budget period of 12 months in years four and five.

Estimated Number of Awards: 1.

Note: The Department is not bound by any estimates in this notice.

Project Period: Up to 60 months.

III. Eligibility Information

1. Eligible Applicants: SEAs; State lead agencies under Part C of the IDEA; local educational agencies (LEAs), including public charter schools that are considered LEAs under State law; institutions of higher education (IHEs); other public agencies; private nonprofit organizations; freely associated States and outlying areas; Indian Tribes or Tribal organizations; and for-profit organizations.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This competition does not require cost sharing or matching.

b. Indirect Cost Rate Information: This program uses an unrestricted indirect cost rate. For more information regarding indirect costs, or to obtain a negotiated indirect cost rate, please see https://www2.ed.gov/about/offices/list/ocfo/intro.html.

c. Administrative Cost Limitation: This program does not include any program-specific limitation on administrative expenses. All administrative expenses must be reasonable and necessary and conform to Cost Principles described in 2 CFR part 200 subpart E of the Guidance for Federal Financial Assistance.

3. Subgrantees: Under 34 CFR 75.708(b) and (c), a grantee under this competition may award subgrants—to directly carry out project activities described in its application—to the following types of entities: IHEs, nonprofit organizations suitable to carry out the activities proposed in the application, and other public agencies. The grantee may award subgrants to entities it has identified in an approved application or that it selects through a competition under procedures established by the grantee, consistent with 34 CFR 75.708(b)(2).

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at www.federalregister.gov/content/pkg/FR-2022-12-07/pdf/2022-26554.pdf, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses.

(ii) The importance or magnitude of the results or outcomes likely to be attained by the proposed project.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The extent to which there is a conceptual framework underlying the proposed research or demonstration activities and the quality of that framework.

(iii) The extent to which the services to be provided by the proposed project reflect up-to-date knowledge from research and effective practice.

(iv) The extent to which the training or professional development services to be provided by the proposed project are of sufficient quality, intensity, and duration to lead to improvements in practice among the recipients of those services.

(v) The extent to which the TA services to be provided by the proposed project involve the use of efficient strategies, including the use of technology, as appropriate, and the leveraging of non-project resources.

(vi) The adequacy of mechanisms for ensuring high-quality products and services from the proposed project.

(c) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation provide for examining the effectiveness of project implementation strategies.

(iii) The extent to which the methods of evaluation will provide performance feedback and permit periodic assessment of progress toward achieving intended outcomes.

(iv) The extent to which the methods of evaluation include the use of objective performance measures that are clearly related to the intended outcomes of the project and will produce quantitative and qualitative data to the extent possible.

(d) Adequacy of resources and quality of project personnel (20 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The qualifications, including relevant training and experience, of project consultants or subcontractors.

(iv) The qualifications, including relevant training, experience, and independence, of the evaluator.

(v) The adequacy of support, including facilities, equipment, supplies, and other resources, from the applicant organization or the lead applicant organization.

(vi) The relevance and demonstrated commitment of each partner in the proposed project to the implementation and success of the project.

(vii) The extent to which the budget is adequate to support the proposed project.

(viii) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance for Federal Financial Assistance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN), or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, the Department has established a set of performance measures that are designed to yield information on various aspects of the effectiveness and quality of the Technical Assistance on State Data Collection program. These measures are:

• Program Performance Measure #1: The percentage of TA and dissemination products and services deemed to be of high quality by an independent review panel of experts qualified or individuals with appropriate expertise to review the substantive content of the products and services.

• Program Performance Measure #2: The percentage of TA and dissemination products and services deemed by an independent review panel of qualified experts or members of the target audiences to be of high relevance to educational and early intervention policy or practice.

• Program Performance Measure #3: The percentage of TA and dissemination products and services deemed by an independent review panel of qualified experts or members of the target audiences to be useful in improving educational or early intervention policy or practice.

• Program Performance Measure #4: The cost efficiency of the Technical Assistance on State Data Collection Program includes the percentage of milestones achieved in the current annual performance report period and the percentage of funds spent during the current fiscal year.

The measures apply to projects funded under this competition, and grantees are required to submit data on these measures as directed by OSEP.

Grantees will be required to report information on their project's performance in annual and final performance reports to the Department (34 CFR 75.590).

The Department will also closely monitor the extent to which the products and services provided by the Center meet needs identified by stakeholders and may require the project to report on such alignment in its annual and final performance reports.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Danté Allen,
Commissioner, Rehabilitation Services Administration, Office of Special Education and Rehabilitative Services.

[FR Doc. 2024-16116 Filed 7-18-24; 11:15 am]

BILLING CODE 4000-01-P